DEPARTMENT OF TRANSPORTATION

Federal Aviation Administration

14 CFR Part 91

[Docket No.: FAA-2014-0458; Amendment No. 91-333]

RIN 2120-AA66

Airports/Locations: Special Operating Restrictions

AGENCY: Federal Aviation Administration (FAA), DOT.

ACTION: Final rule; technical amendment.

SUMMARY: This action amends the Appendix listing airports/locations with special operating restrictions in FAA's general operating and flight rules. Specifically, this action adds an additional entry for Houston, TX (William P. Hobby Airport), and San Diego, CA (Marine Corps Air Station Miramar), to the Appendix, which lists the airports where aircraft operating within 30 nautical miles (NM) of the listed airports, from the surface upward to 10,000 feet mean sea level (MSL) must be equipped with an altitude encoding transponder. The FAA is taking this action to correctly identify applicable airports under the appropriate sections in the Appendix.

DATES: Effective Date: November 13, 2014.

FOR FURTHER INFORMATION CONTACT: Colby Abbott, Airspace Policy and Regulations Group, AJV-113, Federal Aviation Administration, 800 Independence Avenue SW., Washington, DC 20591; telephone (202) 267-8783, email colby.abbott@faa.gov.

SUPPLEMENTARY INFORMATION:

Background

Title 14 of the Code of Federal Regulations, part 91, appendix D, section 1, lists the airports where special operating restrictions apply. Specifically, this section lists the locations at which aircraft operating within 30 NM of the listed airports, from the surface upward to 10,000 feet MSL, must be equipped with an altitude encoding transponder. The locations listed in the section are intended to be the Class B airspace area primary airports.

On June 21, 1988, the FAA published the ATC Transponder with Automatic Altitude Reporting Capability Requirement final rule (the “Mode C rule”) (53 FR 23356). The rule established the requirement for a transponder with automatic altitude reporting capability for aircraft operating within certain airspace. Effective July 1, 1989, all aircraft were required to have a transponder with Mode C when operating within 30 miles of any designated Terminal Control Area (TCA) primary airport from the surface upward to 10,000 feet MSL (the Mode C “veil”). Exclusion provisions were established for aircraft which were not originally certificated with an engine-driven electrical system or which have not subsequently been certified with such a system installed, balloons, and gliders. This requirement was also to apply on the effective date of any future TCA primary airport designated by rulemaking actions associated with the establishment or modification of a TCA.

On August 18, 1989, the FAA published the Revision of General Operating and Flight Rules final rule (54 FR 34284). That rule reorganized and realigned the general operating and flight rules to make them more understandable and easier to use. The Mode C veil requirements for aircraft operating in all airspace within 30 NM of any designated TCA primary airport from the surface upward to 10,000 feet MSL, as well as the exclusion provisions, were retained as established in 1988. The rule simply realigned the part 91 Mode C veil requirements previously contained in Title 14 of the Code of Federal Regulations (14 CFR) § 91.24 to become 14 CFR 91.215.

On December 17, 1991, the FAA published the Airspace Reclassification final rule (56 FR 65638). The rule reclassified TCA airspace to become Class B airspace, effective September 16, 1993. The FAA did not modify any Mode C veil requirements under the airspace reclassification final rule. The rule did amend the regulatory text in 14 CFR 91.215(b)(2) by changing the text from applying to all all aircraft in all airspace within 30 nautical miles of a terminal control area primary airport from the surface upward to 10,000 feet MSL, to applying to all aircraft in all airspace within 30 nautical miles of an airport listed in appendix D, section 1 of the part from the surface upward to 10,000 feet MSL. The airports listed in appendix D, section 1 were intended to be the Class B airspace (previously TCA airspace) primary airports consistent with the guidance published in the Revision of General Operating and Flight Rules final rule published in 1989, as noted above.

On November 13, 1973, the FAA issued a final rule (38 FR 31286) which established the Houston TCA and listed the Houston Intercontinental Airport as the primary airport. In 1992, the FAA issued a final rule (57 FR 30818) and a final rule; correction (57 FR 40095) which amended the Houston TCA and listed the Houston Intercontinental Airport (later renamed the George Bush Intercontinental Airport) and William P. Hobby Airport as primary airports, which they remain today, to the Houston Class B airspace area. Similarly, on March 20, 1980, the FAA published the final rule (45 FR 18336) that established the San Diego, CA, TCA and listed San Diego (Lindbergh Field), CA, and Miramar Naval Air Station (NAS), Miramar, CA, as primary airports. Miramar NAS was renamed Marine Corps Air Station (MCAS) Miramar effective October 1, 1997, but both airports have remained primary airports to the San Diego, CA, Class B airspace area.

When the Airspace Reclassification final rule amended the regulatory text in 14 CFR 91.215(b)(2) by changing the text to applying to all aircraft in all airspace within 30 nautical miles of an airport listed in appendix D, section 1 of the part, the airports listed in appendix D, section 1 inadvertently overlooked including MCAS Miramar (formerly Miramar NAS) as one of the primary airports of the San Diego Class B airspace area when the list was established. Subsequently, when William P. Hobby Airport became a primary airport of the Houston Class B airspace area, the regulatory action to list the airport in appendix D, section 1 was also inadvertently overlooked.

This action corrects those unintentional errors by adding MCAS Miramar and William P. Hobby Airport to the part 91, appendix D, section 1 list of locations for which the requirements of §§ 91.215(b)(2) and 91.225(d)(2) apply below 10,000 feet MSL within a 30 NM radius of each location.

List of Subjects in 14 CFR Part 91

Air traffic control, Aircraft, Airmen, Airports, Aviation safety.

The Amendment

In consideration of the foregoing, the Federal Aviation Administration amends Title 14 of the Code of Federal Regulations part 91, as follows:

PART 91—GENERAL OPERATING AND FLIGHT RULES

1. The authority citation for part 91 continues to read as follows:

Authority: 49 U.S.C. 106(f), 106(g), 1155, 40103, 40113, 40120, 44101, 44111, 44701, 44704, 44709, 44711, 44712, 44715, 44716, 44717, 44722, 46306, 46315, 46316, 46504, 46506-46507, 47122, 47508, 47528-47531, 47534, articles 12 and 29 of the Convention on International Civil Aviation (61 Stat. 1180), (126 Stat. 11).

2. Appendix D to Part 91, Section 1, is amended by adding entries for “Houston, TX” and “San Diego, CA” in alphabetical order to read as follows:

Appendix D to Part 91—Airports/Locations: Special Operating Restrictions (Amended)

Section 1. Locations at which the requirements of § 91.215(b)(2) and § 91.225(d)(2) apply. The requirements of §§ 91.215(b)(2) and 91.225(d)(2) apply below 10,000 feet MSL within a 30-nautical-mile radius of each location in the following list.

* * * * *

Houston, TX (William P. Hobby Airport)

* * * * *

San Diego, CA (Marine Corps Air Station Miramar)

* * * * *

Issued in Washington, DC, on September 4, 2014.
Mark W. Bury,
Assistant Chief Counsel for International Law, Legislation and Regulations.

[FR Doc. 2014-22507 Filed 9-24-14; 8:45 am]

BILLING CODE 4910-13-P